Executive Order 13666 of April 18, 2014

Expanding Eligibility for the Defense Meritorious Service Medal

By the authority vested in me as President by the Constitution and the laws of the United States of America, it is hereby ordered as follows:

Executive Order 12019 of November 3, 1977 (Establishing the Defense Meritorious Service Medal), is amended by inserting “, or to any member of the armed forces of a friendly foreign nation,” after “any member of the Armed Forces of the United States”.

THE WHITE HOUSE,

April 18, 2014.

[FR Doc. 2014-09343

Filed 4-22-14; 8:45 am]

Billing code 3295-F4